DEPARTMENT OF ENERGY

Federal Energy Regulatory Commission

[Docket Nos. CP06-470-000; CP06-471-000; CP06-472-000; CP06-473-000; CP06-474-000]

Southern LNG Inc.; Elba Express Company, L.L.C.; Southern Natural Gas Company; Notice of Availability of the Draft Environmental Impact Statement for the Elba III Project

March 30, 2007.

The staff of the Federal Energy Regulatory Commission (FERC or Commission) has prepared a draft Environmental Impact Statement (EIS) for the Elba III Project, proposed by Southern LNG Inc. (Southern LNG), Elba Express Company, L.L.C. (EEC), and their parent company Southern Natural Gas Company (Southern), a subsidiary of El Paso Corporation. As described in the above-referenced dockets, this project would consist of the following components:

• Southern LNG's expansion of the existing Elba Island Liquefied Natural Gas (LNG) Import Terminal near Savannah in Chatham County, Georgia;

• EEC's construction and operation of natural gas pipeline and compression facilities (Elba Express Pipeline) extending between existing facilities owned by Southern in Chatham County and those of Transcontinental Gas Pipe Line Corporation (Transco) in Hart County, Georgia and Anderson County, South Carolina; and

• Southern's abandonment by sale to EEC of an undivided interest in its pipeline facilities that extend between the LNG import terminal and the existing Port Wentworth Meter Station (where the Elba Express Pipeline would begin), and purchase of an undivided interest in the first 10 miles of the Elba Express Pipeline.

The draft EIS was prepared to satisfy the requirements of the National Environmental Policy Act of 1969 (NEPA), and was completed with the cooperation of the U.S. Coast Guard (Coast Guard), the U.S. Army Corps of Engineers (COE), and the National Oceanic and Atmospheric Administration's National Marine Fisheries Service (NOAA Fisheries). A cooperating agency has jurisdiction by law or special expertise with respect to potential environmental impacts associated with the proposal, and participates in the NEPA analysis.

The Coast Guard is responsible for determining the suitability of a waterway for LNG marine traffic; in this instance, the determination would be issued as a Letter of Recommendation with conditions. The Captain of the Port Savannah is the point of contact for this action. The COE would need to evaluate the project and issue Section 404 Permits for wetland impacts associated with expansion of the terminal and pipeline construction, easements where the pipeline would cross COE-managed lands, modifications to existing COE Mitigation Lands, and an approval for a large fuel-carrying pipeline to cross federal property. NOAA Fisheries has responsibilities for evaluating potential impacts on essential fish habitat and threatened or endangered aquatic species.

The FERC staff has concluded that if the project is constructed and operated in accordance with applicable laws and regulations, each project sponsor's proposed mitigation, and the staff's additional mitigation recommendations, it would have limited adverse environmental impact and would be an environmentally acceptable action.

The draft EIS addresses the potential environmental effects of construction and operation of the following LNG terminal and natural gas pipeline facilities:

Elba Terminal Expansion

The proposed expansion of the existing LNG import terminal would: (a) More than double the site's LNG storage capacity by adding 405,000 cubic meters (m³) of new storage; (b) substantially increase the facility's existing vaporization capacity; (c) upgrade the terminal's send-out meter station to increase the natural gas send-out capacity of the facility by an additional 900 million cubic feet per day (MMcfd); and (d) modify the terminal's LNG tanker berthing and unloading facilities to accommodate larger tankers and provide for simultaneous unloading of two LNG tankers. All of the planned facilities would be located entirely within the existing 190-acre facility site on Elba Island.

The LNG terminal expansion would be constructed in two phases, A and B. Southern LNG anticipates completing Phase A as early as January 2010. Phase A would include the following facilities:

a. One new 200,000-m³ (1.25 million barrels [bbls]) LNG storage tank, one associated boil-off gas condenser, and three boil-off gas compressors;

b. three submerged combustion vaporizers, each with a peak capacity of 180 MMcfd (providing a total peak send-out capacity of 1,755 MMcfd for the full facility at the completion of phase A); and

c. modifications to the unloading docks to accommodate larger LNG tankers and to allow simultaneous unloading of two LNG tankers. The modifications to the dual berthing slip include:

—Adding four mooring dolphins (two for each berth);

—dredging approximately 72,000 cubic yards of material from the slope at the back of the existing slip (and disposing of dredged material into the existing spoil disposal area adjacent to the terminal); and

—installing a sheet pile bulkhead at the back of the slip.

These modifications would allow the slip to accommodate larger LNG tankers with an approximate overall length of 345 meters (m) (compared to the current 288 m), breadth of 55 m (currently 49 m), design laden draft of 12.0 m (currently 11.7 m), and displacement of 177,000 metric tons (currently 128,000 metric tons).

Phase B would be completed no later than December 2012 and would include the following facilities:

a. one new 200,000-m³ (1.25 million bbls) LNG storage tank; and

b. three submerged combustion vaporizers (two for service and one spare), each with a peak capacity of 180 MMcfd (providing a total peak send-out capacity of 2,115 MMcfd for the full facility at the completion of phase B).

Each phase would include all necessary ancillary equipment including related pumps, piping, controls and appurtenances, and associated systems (electrical, mechanical, civil, instrumentation, hazard detection, and fire protection) and buildings necessary to accommodate the associated tanks and vaporizer units.

Elba Express Pipeline

EEC proposes to construct and operate about 188 miles of new natural gas pipeline and appurtenant facilities in Georgia and South Carolina. The pipeline would be constructed in two phases. The first phase is proposed to be placed in service no later than July 2011 with a design capacity of 945 MMcfd, and would consist of:

a. a “Southern Segment,” which includes about 104.8 miles of 42-inch-diameter pipeline extending from Port Wentworth to the existing Southern Wrens Compressor Station (Wrens) in Jefferson County, Georgia (to be collocated with existing Southern pipelines); and

b. a “Northern Segment,” which includes about 83.1 miles of 36-inch-diameter pipeline extending from Wrens to interconnects with Transco in Hart County, Georgia, and Anderson County, South Carolina.

The second phase would involve construction and operation of a new 10,000-horsepower compressor station near Millen, Jenkins County, Georgia, on a site where Southern currently operates other aboveground facilities. The compressor station would increase the pipeline design capacity by 230 MMcfd to a total of 1,175 MMcfd, and is proposed to be placed in service no later than January 2013.

The draft EIS has been placed in the public files of the FERC and is available for distribution and public inspection at: Federal Energy Regulatory Commission, Public Reference Room, 888 First Street, NE., Room 2A, Washington, DC 20426, (202) 502-8371.

CD-ROM copies of the draft EIS have been mailed to federal, state, and local agencies; public interest groups; individuals and affected landowners who requested a copy of the draft EIS or provided comments during scoping; libraries and newspapers in the project area; and parties to this proceeding. Hard copy versions of the draft EIS were mailed to those specifically requesting them. A limited number of hard copies and CD-ROMs are available from the Public Reference Room identified above.

Comment Procedures and Public Meetings

Any person wishing to comment on the draft EIS may do so. To ensure consideration prior to a Commission decision on the proposal, it is important that the Commission receive your comments before the date specified below. Please carefully follow these instructions to ensure that your comments are received and properly recorded:

• Send an original and two copies of your comments to: Philis J. Posey, Acting Secretary, Federal Energy Regulatory Commission, 888 First Street, NE., Room 1A, Washington, DC 20426.

• Reference Docket Nos. CP06-470-000, et al.

• Label one copy of the comments for the attention of Gas Branch 1, DG2E.

• Mail your comments so that they will be received in Washington, DC on or before May 21, 2007.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account, which can be created by clicking on “Login to File” and then “New User Account.” You will be asked to select the type of filing you are making. This filing is considered a “Comment on Filing.”

In lieu of sending written comments, you are invited to attend public comment meetings the FERC staff will conduct in the project area to receive comments on the draft EIS. Date, time, and location of these meetings will be sent under separate cover. Interested groups and individuals are encouraged to attend and present oral comments on the draft EIS. Transcripts of the meetings will be prepared.

After these comments are reviewed, any significant new issues are investigated, and modifications are made to the draft EIS, a final EIS will be published and distributed. The final EIS will contain the FERC staff's responses to timely comments received on the draft EIS.

Comments will be considered by the Commission but will not serve to make the commenter a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervener status to have your comments considered.

¹ Interventions may also be filed electronically via the Internet in lieu of paper. See the previous discussion on filing comments electronically.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Philis J. Posey,
Acting Secretary.

[FR Doc. E7-6315 Filed 4-4-07; 8:45 am]

BILLING CODE 6717-01-P